DEPARTMENT OF VETERANS AFFAIRS

National Research Advisory Council; Notice of Meeting

The Department of Veterans Affairs (VA) gives notice under Public Law 92-463 (Federal Advisory Committee Act) that the National Research Advisory Council will hold a meeting on Monday and Tuesday, June 13-14, 2005, at the Hamilton Crowne Plaza Hotel, 14th & K Streets, NW., Washington, DC. On June 13, the meeting will convene at 1 p.m. and recess at 4:30 p.m. The June 14 session will convene at 8:30 a.m. and conclude by 3 p.m. the meeting is open to the public.

The purpose of the Council is to provide advice to the Secretary of Veterans Affairs on research and development sponsored and/or conducted by the Department of Veterans Affairs to include policies and programs of the Research and Development Office.

The meeting will feature a review of the VA research portfolio and a summary of current budget allocations. The Council will also discuss performance measures designed to perform program evaluations and provide feedback on the direction/focus of VA's research initiatives.

Any member of the public wishing to attend the meeting or wishing further information should contact Ms. Karen Scott, Designated Federal Office, at (202) 254-0200. Oral comments from the public will not be accepted at the meeting. Written statements or comments should be transmitted electronically to karen.scott@hq.med.va.gov or mailed to Ms. Scott at Department of Veterans Affairs, Office of Research and Development (12C), 810 Vermont Avenue, NW., Washington, DC 20420.

Dated: May 17, 2005.
By Direction of the Secretary.
E. Philip Riggin,
Committee Management Officer.

[FR Doc. 05-10287 Filed 5-23-05; 8:45 am]

BILLING CODE 8320-01-M